DEPARTMENT OF HEALTH AND HUMAN SERVICES

Centers for Disease Control and Prevention

Notice of Award of a Sole Source Cooperative Agreement To Fund Ministry of Health (MOH)—AIDS Control Program

AGENCY: Centers for Disease Control and Prevention (CDC), Department of Health and Human Services (HHS).

ACTION: Notice.

SUMMARY: The Centers for Disease Control and Prevention (CDC), located within the Department of Health and Human Services (HHS), announces the award of approximately $15,000,000, for Year 1 funding to MOH—AIDS Control Program. The award will support achievement of HIV epidemic control in Uganda by supporting the MOH to develop and disseminate key national policies and guidelines, increase technical capacity, ensure quality of health services, improve data quality and utilization, and provide leadership and direction to all partners engaged in the epidemic response. Funding amounts for years 2-5 will be set at continuation.

DATES: The period for this award will be September 30, 2024, through September 29, 2029.

FOR FURTHER INFORMATION CONTACT: Kathy Grooms, Center for Global Health, Centers for Disease Control and Prevention, Embassy, Centers for Disease Control and Prevention Kampala, Uganda, Telephone: 404.718.2578, Email: kwg1@cdc.gov.

SUPPLEMENTARY INFORMATION: The sole source award(s) will strengthen technical and management capacity to review and develop key policies and guidelines and support the standardization and harmonization of the HIV/AIDS/TB response in Uganda.

MOH—AIDS Control Program is in a unique position to conduct this work, as it has the authority, mandate, and ability to oversee, regulate, report on, and lead the overall health sector performance and activity implementation. No other entity can perform the duties of the MOH. The short-term success and long-term sustainability of HIV epidemic control, as well as general disease control and mitigation depend upon strong leadership and coordination from the MOH—AIDS Control Program.

Summary of the Award

Recipient: Ministry of Health (MOH)—AIDS Control Program.

Purpose of the award: The purpose of this award is to support achievement of HIV epidemic control in Uganda by supporting the MOH to develop and disseminate key national policies and guidelines, increase technical capacity, ensure quality of health services, improve data quality and utilization, and provide leadership and direction to all partners engaged in the epidemic response.

Amount of award: For MOH—AIDS Control Program, the approximate year 1 funding amount will be $15,000,000 in Federal Fiscal Year (FYY) 2024 funds, subject to the availability of funds. Funding amounts for years 2-5 will be set at continuation.

Authority: This program is authorized under Public Law 108-25 (the United States Leadership Against HIV AIDS, Tuberculosis and Malaria Act of 2003) [22 U.S.C. 7601, et seq.] and Public Law 110-293 (the Tom Lantos and Henry J. Hyde United States Global Leadership Against HIV/AIDS, Tuberculosis, and Malaria Reauthorization Act of 2008), and Public Law 113-56 (PEPFAR Stewardship and Oversight Act of 2013).

Period of performance: The period for this award will be September 30, 2024, through September 29, 2029.

Dated: February 26, 2024.
Jamie Legier,
Acting Director, Office of Grants Services, Centers for Disease Control and Prevention.

[FR Doc. 2024-04404 Filed 2-29-24; 8:45 am]

BILLING CODE 4163-18-P